DEPARTMENT OF THE TREASURY

Submission for OMB Review; Comment Request

February 18, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 28, 2011 to be assured of consideration.

Alcohol and Tobacco Tax and Trade Bureau (TTB)

OMB Number: 1513-0110.

Type of Review: Extension to a currently approved collection.

Title: Recordkeeping for Tobacco Products Removed in Bond from a Manufacturer's Premises for Experimental Purposes—27 CFR 40.232(e).

Abstract: The prescribed records apply to manufacturers who ship tobacco products in bond for experimental purposes. TTB can examine these records to determine that the proprietor has complied with law and regulations that allow such tobacco products to be shipped in bond for experimental purposes without payment of the excise tax.

Respondents: Private Sector: Businesses or other for-profits.

Estimated Total Burden Hours: 1 hour.

OMB Number: 1513-0058.

Type of Review: Extension to a currently approved collection.

Title: Usual and Customary Business Records Maintained by Brewers (TTB REC 5130/1).

Abstract: TTB audits brewers' records to verify production of beer and cereal beverage and to verify the quantity of beer removed subject to tax and removed without payment of tax. TTB believes that these records would be normally kept in the course of doing business.

Respondents: Private Sector: Businesses or other for-profits.

Estimated Total Burden Hours: 1 hour.

OMB Number: 1513-0025.

Type of Review: Extension to a currently approved collection.

Title: Notice of Release of Tobacco Products, Cigarette Papers, or Cigarette Tubes.

Form: TTB F 5200.11

Abstract: The form documents the release of tobacco products and cigarette papers and tubes from Customs custody, and return of such articles, to a manufacturer or export warehouse proprietor for use in the United States. The form is also used to ensure compliance with laws and regulations at the time of these transactions and for post audit examinations.

Respondents: Private Sector: Businesses or other for-profits.

Estimated Total Burden Hours: 536 hours.

Clearance Officer: Gerald Isenberg, Alcohol and Tobacco Tax and Trade Bureau, Room 200 East, 1310 G Street, NW., Washington, DC 20005; (202) 453-2097.

OMB Reviewer: Shagufta Ahmed, Office of Management and Budget, New Executive Office Building, Room 10235, Washington, DC 20503; (202) 395-7873.

Celina M. Elphage,
Treasury PRA Clearance Officer.

[FR Doc. 2011-4248 Filed 2-24-11; 8:45 am]

BILLING CODE 4810-31-P